DEPARTMENT OF EDUCATION

[Docket No.: ED-2020-SCC-0186]

Agency Information Collection Activities; Submission to the Office of Management and Budget for Review and Approval; Comment Request; Survey on Use of Funds Under Title II, Part A

AGENCY: Office of Elementary and Secondary Education (OESE), Department of Education (ED).

ACTION: Notice.

SUMMARY: In accordance with the Paperwork Reduction Act of 1995, ED is proposing a new information collection.

DATES: Interested persons are invited to submit comments on or before April 1, 2021 .

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Andrew Brake, 202-453-6136.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Survey on Use of Funds Under Title II, Part A.

OMB Control Number: 1810-New.

Type of Review: New information collection.

Respondents/Affected Public: State, Local, and Tribal Governments.

Total Estimated Number of Annual Responses: 52.

Total Estimated Number of Annual Burden Hours: 416.

Abstract: The U.S. Department of Education (the Department) is requesting clearance to continue collecting data from states annually about how Title II, Part A funds are used; how funds are used to improve equitable access to teachers for-low income and minority students; and where applicable, evaluation and retention data for teachers, principals, and other school leaders. The reporting requirements are outlined in Section 2104(a) of the Elementary and Secondary Education Act (ESEA), as authorized by the Every Student Succeeds Act of 2015 (ESSA).

The survey will include the universe of states, the District of Columbia, and Puerto Rico. The information obtained from the survey will provide the Department with a description of how Title II, Part A State activities funds are used by teach State. In addition, the survey will provide data on teacher, principal, and other school leader evaluation and retention. The survey will be sent to State Title II, Part A coordinators in each of the 50 states, District of Columbia, and Puerto Rico. The survey will be administered using an electronic instrument.

Dated: February 24, 2021.
Stephanie Valentine,
PRA Coordinator, Strategic Collections and Clearance, Governance and Strategy Division, Office of Chief Data Officer, Office of Planning, Evaluation and Policy Development.

[FR Doc. 2021-04172 Filed 3-1-21; 8:45 am]

BILLING CODE 4000-01-P